ENVIRONMENTAL PROTECTION AGENCY

40 CFR PART 52

[IN144-1b; FRL-7390-4]

Approval and Promulgation of Implementation Plans; Indiana

AGENCY: Environmental Protection Agency (EPA).

ACTION: Proposed rule.

SUMMARY: EPA proposes to approve revisions to Particulate Matter (PM) control requirements for certain natural gas combustion sources in Indiana. EPA also proposes to approve various cleanup revisions to Indiana's PM rules and contingency measures for the Lake County, Indiana PM nonattainment area. The Indiana Department of Environmental Management (IDEM) submitted these revisions to Title 326 of the Indiana Administrative Code, Section 6-1 (326 IAC 6-1) as a requested revision to the Indiana State Implementation Plan (SIP) on December 19, 2001. The requested SIP revision eliminates PM emissions limits on certain natural gas combustion sources in specified counties, and replaces the limits with a requirement that such sources may only burn natural gas. The requested SIP revision also contains many cleanup provisions such as eliminating limits for sources which have shut down and updating names of sources. Third, the requested SIP revision adds PM contingency measures for the Lake County, Indiana PM nonattainment area.

DATES: EPA must receive written comments on this proposed rule by November 12, 2002.

ADDRESSES: You should mail written comments to: J. Elmer Bortzer, Chief, Regulation Development Section, Air Programs Branch (AR-18J), U.S. Environmental Protection Agency, Region 5, 77 West Jackson Boulevard, Chicago, Illinois 60604. You may inspect copies of the State submittal and EPA's analysis of it at: Regulation Development Section, Air Programs Branch (AR-18J), U.S. Environmental Protection Agency, Region 5, 77 West Jackson Boulevard, Chicago, Illinois 60604.

FOR FURTHER INFORMATION CONTACT: Matthew Rau, Environmental Engineer, Regulation Development Section, Air Programs Branch (AR-18J), U.S. Environmental Protection Agency, Region 5, 77 West Jackson Boulevard, Chicago, Illinois 60604, (312) 886-6524.

SUPPLEMENTARY INFORMATION: Throughout this document wherever “we”, “us”, or “our” are used we mean EPA.

Table of Contents

I. What action is EPA taking today?

II. Where can I find more information about this proposal and the corresponding direct final rule?

I. What Action Is EPA Taking Today?

We are proposing to approve revisions to PM control requirements for certain natural gas combustion sources in Indiana. We are also proposing to approve various cleanup revisions to Indiana's PM rules and contingency measures for the Lake County, Indiana PM nonattainment area. The requested SIP revision eliminates PM emissions limits on certain natural gas combustion sources in specified counties, and replaces the limits with a requirement that such sources may only burn natural gas. The requested SIP revision also contains many cleanup provisions such as eliminating limits for sources which have shut down and updating names of sources. Third, the requested SIP revision adds PM contingency measures for the Lake County, Indiana PM nonattainment area.

II. Where can I Find More Information About This Proposal and the Corresponding Direct Final Rule?

For additional information see the direct final rule published in the rules section of this Federal Register.

Dated: September 19, 2002.
William E. Muno,
Acting Regional Administrator, Region 5.

[FR Doc. 02-25855 Filed 10-10-02; 8:45 am]

BILLING CODE 6560-50-P